DEPARTMENT OF TRANSPORTATION

Federal Aviation Administration

Approval of Noise Compatibility Program; Boise Air Terminal/Gowen Field, Boise, ID

AGENCY: Federal Aviation Administration (FAA), DOT.

ACTION: Notice.

SUMMARY: The Federal Aviation Administration (FAA) announces its findings on the noise compatibility program submitted by the Boise Air Terminal/Gowen Field under the provisions of Title 49 of the United States Code (49 U.S.C.), the Aviation Safety and Noise Abatement Act, hereinafter referred to as “the Act,” and Title 14 of the Code of Federal Regulations, Part 150. These findings are made in recognition of the description of federal and nonfederal responsibilities in Senate Report No. 96-52 (1980). On August 23, 2005, the Federal Aviation Administration (FAA) determined that the noise exposure maps submitted by the Boise Air Terminal/Gowen Field under Part 150 were in compliance with applicable requirements. On February 8, 2006, the FAA approved the Boise Air Terminal/Gowen Field noise compatibility program. Thirty of thirty-two recommendations of the program were approved.

DATES: The effective date of the FAA's approval of the Boise Air Terminal/Gowen Field Noise Compatibility Program is February 8, 2006.

FOR FURTHER INFORMATION CONTACT: Cayla Morgan, Federal Aviation Administration, Seattle Airports District Office, 1601 Lind Ave. SW., Renton, WA 98055-4056, telephone 425-227-2653. Documents reflecting this FAA action may be reviewed at this same location.

SUPPLEMENTARY INFORMATION: This notice announces that the FAA has given its overall approval to the noise compatibility program for Boise Air Terminal/Gowen Field, effective February 8, 2006.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel. Each airport noise compatibility program developed in accordance with Federal Aviation Regulations (FAR) part 150 is a local program, not a federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR part 150.

b. Program measures are reasonably consistent with achieving the goals of reducing existing non-compatible land uses around the airport and preventing the introduction of additional non-compatible land uses.

c. Program measures would not create an undue burden on interstate of foreign commerce, unjustly discriminate against types or classes of aeronautical uses, violate the terms of airport grant agreements, or intrude into areas preempted by the Federal Government.

d. Program measures relating to the use of flight procedures can be implemented within the period covered by the program without derogating safety, adversely affecting the efficient use and management of the navigable airspace and air traffic control systems, or adversely affecting other powers and responsibilities of the Administrator, as prescribed by law.

Specific limitations with respect to FAA's approval of an airport noise compatibility program are delineated in FAR Part 150, section 150.5. Approval is not a determination concerning the acceptability of land uses under federal, state, or local law. Approval does not by itself constitute an FAA implementing action. A request for federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Seattle Airports District Office in Renton, Washington. Boise Air Terminal/Gowen Field submitted to the FAA on September 9, 2004, the noise exposure maps, descriptions, and other documentation produced during the noise compatibility planning study conducted from 2002 through 2004. The Boise Air Terminal/Gowen Field noise exposure maps were determined by FAA to be in compliance with applicable requirements on August 12, 2005. Notice of this determination was published in the Federal Register on August 23, 2005 (FR Volume 70, Number 162, pages 49360-49361).

The Boise Air Terminal/Gowen Field study contains a proposed noise compatibility program comprised of actions designed for phased implementation by airport management and adjacent jurisdictions from 2004 through 2009. It was requested that the FAA evaluate and approve this material as a noise compatibility program, as described in section 47504 of the Act. The FAA began its review of the program on August 12, 2005, and was required by a provision of the Act to approve or disapprove the program within 180 days (other than the use of new or modified flight procedures for noise control). Failure to approve or disapprove such program within the 180-day period shall be deemed to be an approval of such program.

The submitted program contained 32 proposed actions for noise mitigation on and off the airport. The FAA completed its review and determined that the procedural and substantive requirements of the Act and FAR part 150 have been satisfied. The FAA, therefore, approved the overall program, effective February 8, 2006.

Outright approval was granted for 30 program elements. Noise Abatement Measure 6—Downwind Arrival Flight Tracks was disapproved. The measure was disapproved because no demonstrable noise benefit would accrue if this measure were implemented on a voluntary basis. Vectoring aircraft to south downwind would create operational issues. The aircraft would have to be blended with south traffic and have to be kept clear of departing traffic. The new result would be increased workload, risk of error, and increased flying time and cost for users. Noise Abatement Measure 7—Flight Management System (FMS)/Global Positioning System (GPS) Flight Procedures for 1-84 was also disapproved. The NCP did not demonstrate noise benefits for this measure, even assuming 100 percent compliance. Many aircraft presently are not equipped to carry out FMS/GPS procedures, so the compliance rate is unrealistic. Also, the FAA still would need to develop airport-specific procedures, which would take some time to study and determine their feasibility. This recommendation is more appropriate to pursue outside of the Part 150 process to determine local feasibility and possible inclusion in future updates.

These determinations are set forth in detail in a Record of Approval signed by the Associate Administrator of Airports on February 8, 2006. The Record of Approval, as well as other evaluation materials and the documents comprising the submittal, are available for review at the FAA office listed above and at the administrative offices of the Boise Air Terminal/Gowen Field. The Record of Approval also will be available online at http://www.faa.gov/arp/environmental/14cfr150/index14.cfm.

* * * * *

Issued in Renton, Washington, on February 23, 2006.
Lowell H. Johnson,
Manager, Airports Division, Northwest Mountain Region.

[FR Doc. 06-1946 Filed 3-1-06; 8:45 am]

BILLING CODE 4910-13-M